DEPARTMENT OF ENERGY

Federal Energy Regulatory Commission

Sunshine Act Meeting Notice

October 11, 2007.

The following notice of meeting is published pursuant to section 3(a) of the government in the Sunshine Act (Pub. L. 94-409), 5 U.S.C. 552b:

Agency Holding Meeting: Federal Energy Regulatory Commission.

Date And Time: October 18, 2007, 10 a.m.

Place: Room 2C, 888 First Street, NE., Washington, DC 20426.

Status: Open.

Matters To Be Considered: Agenda. * Note—Items listed on the agenda may be deleted without further notice.

Contact Person For More Information: Kimberly D. Bose, Secretary, Telephone (202) 502-8400.

For a recorded message listing items struck from or added to the meeting, call (202) 502-8627.

This is a list of matters to be considered by the Commission. It does not include a listing of all documents relevant to the items on the agenda. All public documents, however, may be viewed on line at the Commission's Web site at http://www.ferc.gov using the eLibrary link, or may be examined in the Commission's Public Reference Room.

923rd—Meeting Regular Meeting
[October 18, 2007, 10 a.m.]
Item No. | Docket No. | Company
ADMINISTRATIVE
A-1 | AD02-1-000 | Agency Administrative Matters.
A-2 | AD02-7-000 | Customer Matters, Reliability, Security and Market Operations.
A-3 | AD06-3-000 | Energy Market Update.
ELECTRIC
E-1 | EL00-95-164 | San Diego Gas & Electric Company (Bonneville Power Administration v. Federal Energy Regulatory Commission).
E-2 | RR07-16-000 | North American Electric Reliability Corporation.
E-3 | EC07-39-000, EC07-39-001, EC07-39-002 | The Goldman Sachs Group, Inc.
E-4 | EC07-45-000, EC07-45-001, EC07-45-002 | Morgan Stanley.
E-5 | EC07-99-000 | Great Plains Energy Incorporated.
| EL07-75-000 | Kansas City Power & Light Company Aquila, Inc., Black Hills Corporation.
E-6 | EC06-166-000, EC06-166-001 | Legg Mason, Inc.
E-7 | ER07-478-001, ER07-478-003 | Midwest Independent Transmission System Operator, Inc.
E-8 | ER07-478-002 | Midwest Independent Transmission System Operator, Inc.
E-9 | RR06-1-010 | North American Electric Reliability Corporation.
E-10 | OMITTED
E-11 | ER07-1186-000 | PJM Interconnection, L.L.C.
E-12 | ER07-1251-000, ER07-1251-001 | Northern Maine Independent System Administrator, Inc.
E-13 | ER07-1245-000 | ISO New England Inc. and New England Power Pool.
E-14 | RC07-1-000 | Mosaic Fertilizer, LLC.
| RC07-2-000 | City of Tampa, Florida.
E-15 | ER07-995-000, ER07-995-001 | New York Independent System Operator, Inc.
E-16 | ER07-546-002 | ISO New England Inc.
| ER07-546-003, ER07-547-001 | New England Power Pool.
E-17 | EL07-31-000 | DTE Pontiac North LLC.
E-18 | OMITTED
E-19 | ER07-805-001, ER07-805-002, ER07-1304-000 | California Independent System Operator Corporation.
E-20 | ER97-4166-024, ER96-780-017, EL04-124-005 | Southern Company Energy Marketing, L.P. and Southern Company Services, Inc.
E-21 | ER07-748-001 | New York Independent System Operator, Inc.
E-22 | ER07-541-002 | Entergy Services, Inc.
E-23 | ER05-231-005, ER05-231-006 | PSEG Power Connecticut, LLC.
E-24 | ER05-163-005, ER05-163-006 | Milford Power Company, LLC.
E-25 | EL05-76-002 | The United Illuminating Company v. Dominion Energy Marketing, Inc.
E-26 | ER07-525-002 | Entergy Services, Inc.
E-27 | ER06-1218-005 | PJM Interconnection, L.L.C.
E-28 | OMITTED
MISCELLANEOUS
M-1 | OMITTED
GAS
G-1 | OMITTED
G-2 | RP07-500-000, RP07-500-001, RP07-500-002 | Columbia Gulf Transmission Company.
G-3 | RP07-509-000, RP07-509-001, RP07-509-002 | Columbia Gas Transmission Corporation.
G-4 | RP07-179-002, RP07-179-001 | Gulf South Pipeline Company, LP.
G-5 | RP07-473-000 | National Energy and Trade LP v. Texas Gas Transmission LLC and Gulf South Pipeline LP.
HYDRO
H-1 | P-11437-022 | Hydro Matrix Limited Partnership.
H-2 | P-12484-002 | Metro Hydroelectric Company, LLC.
H-3 | P-9401-066 | Mt. Hope Waterpower Project, L.L.P.
H-4 | P-12911-001, P-12911-002 | Electric Plant Board of the City of Paducah, Kentucky
H-5 | P-1494-300 | Grand River Dam Authority.
H-6 | P-233-105 | Pacific Gas and Electric Company.
CERTIFICATES
C-1 | OMITTED
C-2 | CP07-88-000 | Egan Hub Storage, LLC.
C-3 | CP05-357-006 | Cheniere Creole Trail Pipeline, L.P.
| CP07-426-000 | Cheniere Sabine Pass Pipeline, L.P.
C-4 | CP07-395-000 | Wyoming Interstate Company, Ltd.
C-5 | RM07-17-000 | Revisions to Landowner Notification and Blanket Certificate Regulations.

Kimberly D. Bose,
Secretary.

A free Web cast of this event is available through http://www.ferc.gov. Anyone with Internet access who desires to view this event can do so by navigating to www.ferc.gov's Calendar of Events and locating this event in the Calendar. The event will contain a link to its Web cast. The Capitol Connection provides technical support for the free Web casts. It also offers access to this event via television in the DC area and via phone bridge for a fee. If you have any questions, visit http://www.CapitolConnection.org or contact Danelle Springer or David Reininger at 703-993-3100.

Immediately following the conclusion of the Commission Meeting, a press briefing will be held in the Commission Meeting Room. Members of the public may view this briefing in the designated overflow room. This statement is intended to notify the public that the press briefings that follow Commission meetings may now be viewed remotely at Commission headquarters, but will not be telecast through the Capitol Connection service.

[FR Doc. E7-20392 Filed 10-16-07; 8:45 am]

BILLING CODE 6717-01-P